INTERNATIONAL TRADE COMMISSION

[Investigation Nos. 731-TA-873-875, 877-880, and 882 (Review)]

Steel Concrete Reinforcing Bar From Belarus, China, Indonesia, Korea, Latvia, Moldova, Poland, and Ukraine

Determinations

On the basis of the record ¹ developed in the subject five-year reviews, the United States International Trade Commission (Commission) determines, pursuant to section 751(c) of the Tariff Act of 1930 (19 U.S.C. 1675(c)), that revocation of the antidumping duty orders on steel concrete reinforcing bar from Belarus,² China, Indonesia, Latvia,³ Moldova,⁴ Poland,⁵ and Ukraine ⁶ would be likely to lead to continuation or recurrence of material injury to an industry in the United States within a reasonably foreseeable time. The Commission further determines that revocation of the antidumping duty order on steel concrete reinforcing bar from Korea would not be likely to lead to continuation or recurrence of material injury to an industry in the United States within a reasonably foreseeable time.⁷

¹ The record is defined in section 207.2(f) of the Commission's Rules of Practice and Procedure (19 CFR 207.2(f)).

² Chairman Daniel R. Pearson and Commissioner Deanna Tanner Okun dissenting with respect to Belarus.

³ Chairman Daniel R. Pearson, Vice Chairman Shara L. Aranoff, and Commissioner Deanna Tanner Okun dissenting with respect to Latvia.

⁴ Chairman Daniel R. Pearson and Commissioner Deanna Tanner Okun dissenting with respect to Moldova.

⁵ Chairman Daniel R. Pearson, Vice Chairman Shara L. Aranoff, and Commissioner Deanna Tanner Okun dissenting with respect to Poland.

⁶ Chairman Daniel R. Pearson dissenting with respect to Ukraine.

⁷ Commissioners Charlotte R. Lane and Dean A. Pinkert dissenting with respect to Korea.

Background

The Commission instituted these reviews on August 1, 2006 (71 FR 43523) and determined on November 6, 2006 that it would conduct full reviews (71 FR 66974, November 17, 2006). Notice of the scheduling of the Commission's reviews and of a public hearing to be held in connection therewith was given by posting copies of the notice in the Office of the Secretary, U.S. International Trade Commission, Washington, DC, and by publishing the notice in the Federal Register on December 6, 2006 (71 FR 70786). The hearing was held in Washington, DC, on May 10, 2007, and all persons who requested the opportunity were permitted to appear in person or by counsel.

The Commission transmitted its determinations in these reviews to the Secretary of Commerce on July 26, 2007. The views of the Commission are contained in USITC Publication 3933 (July 2007), entitled Steel Concrete Reinforcing Bar from Belarus, China, Indonesia, Korea, Latvia, Moldova, Poland, and Ukraine: Investigation Nos. 731-TA-873-875, 877-880, and 882 (Review).

Issued: July 26, 2007.
By order of the Commission.
Marilyn R. Abbott,
Secretary to the Commission.

[FR Doc. E7-14809 Filed 7-31-07; 8:45 am]

BILLING CODE 7020-02-P